Title 3—

The President

Proclamation 10085 of September 30, 2020

National Breast Cancer Awareness Month, 2020

By the President of the United States of America

A Proclamation

During National Breast Cancer Awareness Month, we honor the incredible fortitude of breast cancer survivors and offer our heartfelt support and prayers to those currently battling this disease. As one Nation, we remember the precious lives lost to breast cancer and the families forever changed as a result. This month, we devote ourselves to fighting to eradicate breast cancer, working with conviction and compassion to develop treatments and find a cure.

This year, an estimated 276,000 Americans will be diagnosed with breast cancer, and more than 42,000 will likely die from this terrible disease. Thankfully, through early detection and improved treatments, today there is a 90 percent five-year survival rate for women diagnosed with breast cancer. The First Lady and I strongly encourage all Americans to meet with their physicians and discuss their individual risks for breast cancer. Increased awareness, especially of family history and other common risk factors, preventive care, and regular screenings, including mammograms, can help save lives through early diagnosis and prompt treatment.

As President, I am deeply committed to ensuring that Americans have access to cutting-edge treatments and life-saving medications for conditions like breast cancer. In 2018, I signed into law historic “Right to Try” legislation, which ensures those diagnosed with a terminal illness greater autonomy in choosing their treatment path and increases their access to potentially lifesaving drugs. My Administration also has taken decisive action to lower prescription drug prices and eliminate burdensome regulations that, for too long, undercut the potential of our researchers to develop innovative treatments and medications. We are also relentlessly committed to protecting Americans with pre-existing conditions, including conditions that may put someone at a greater risk of developing breast cancer. In the fight against this disease, we will continue to use every tool at our disposal to provide Americans with the best possible treatments and medications to save lives.

This month, as we celebrate the incredible resilience of breast cancer survivors and remember those lost to this disease, we also pray for comfort and strength for those currently battling breast cancer. Together, united by compassion and resolve, we will continue in our effort to find new treatments, medications, and a cure to eradicate this disease from our Nation.

NOW, THEREFORE, I, DONALD J. TRUMP, President of the United States of America, by virtue of the authority vested in me by the Constitution and the laws of the United States, do hereby proclaim October 2020 as National Breast Cancer Awareness Month. Citizens, government agencies, private businesses, nonprofit organizations, the media, and other interested groups must increase awareness of what we can do to fight breast cancer. I also invite the Governors of the States and Territories and officials of other areas subject to the jurisdiction of the United States to join me in recognizing National Breast Cancer Awareness Month.

IN WITNESS WHEREOF, I have hereunto set my hand this thirtieth day of September, in the year of our Lord two thousand twenty, and of the Independence of the United States of America the two hundred and forty-fifth.

[FR Doc. 2020-22174

Filed 10-5-20; 8:45 am]

Billing code 3295-F1-P